DEPARTMENT OF THE INTERIOR

Fish and Wildlife Service

Alere Riverside Avenue Development, City of Rialto, San Bernardino County, CA

AGENCY: Fish and Wildlife Service, Interior.

ACTION: Notice of availability and receipt of application.

SUMMARY: We, the U.S. Fish and Wildlife Service (Service), announce that Alere Property Group (Applicant) has applied to the Fish and Wildlife Service (Service) for an incidental take permit pursuant to section 10(a)(1)(B) of the Endangered Species Act (Act) of 1973, as amended. We are considering issuing a 5-year permit to the Applicant that would authorize take of the federally endangered Delhi Sands flower-loving fly (Rhaphiomidas terminatus abdominalis; “DSF”). The proposed permit would authorize the take of individual DSF. The permit is needed by the Applicant because take of DSF could occur during the proposed construction of a commercial development and habitat restoration and management on an 18.42-acre site in the City of Rialto, San Bernardino County, California.

The permit application includes the proposed Habitat Conservation Plan (Plan) and associated Implementing Agreement that describe the proposed action and the measures that the Applicant will undertake to mitigate take of the DSF.

DATES: Written comments must be received on or before October 1, 2007.

ADDRESSES: Send written comments to Mr. Jim Bartel, Field Supervisor, Fish and Wildlife Service, 6010 Hidden Valley Road, Carlsbad, California 92011. You also may send comments by facsimile to (760) 918-0638.

FOR FURTHER INFORMATION CONTACT: Ms. Karen Goebel, Assistant Field Supervisor (see ADDRESSES) or call (760) 431-9440.

SUPPLEMENTARY INFORMATION:

Availability of Documents

You may obtain copies of these documents for review by contacting the above office. Documents also will be available for public inspection, by appointment, during normal business hours at the above address and at the San Bernardino County Libraries. Addresses for the San Bernardino County Libraries are: (1) 10145 Orchard Street, Bloomington, CA 92316; (2) 251 West First Street, Rialto, CA 92376; (3) 16860 Valencia Avenue, Fontana, CA 92335; and, (4) 22795 Barton Road, Grand Terrace, CA 92313.

Background

Section 9 of the Act and Federal regulations prohibit the “take” of fish and wildlife species listed as endangered or threatened. Take of federally listed fish and wildlife is defined under the Act to include “harass, harm, pursue, hunt, shoot, wound, kill, trap, capture, or collect, or to attempt to engage in any such conduct.” The Service may, under limited circumstances, issue permits to authorize incidental take (i.e., take that is incidental to, and not the purpose of, the carrying out of an otherwise lawful activity). Regulations governing incidental take permits for threatened and endangered species are found in 50 CFR 17.32 and 17.22.

The Applicant is proposing development of commercial facilities on 12.88 acres of an 18.42-acre site in the City of Rialto, San Bernardino County, California. The site is located southwest of the intersection of Riverside and Jurupa Avenues in the City of Rialto, County of San Bernardino, California. The proposed project site is bordered by existing commercial facilities to the west and east, 6 acres of open space to the south and approximately 10 acres of open space to the north.

Based on focused surveys, the entire site is considered occupied by the DSF. The Service has determined that the proposed development would result in incidental take of the DSF. No other federally listed species are known to occupy the site.

To minimize and mitigate take of DSF on the project site, the Applicant proposes to set aside 5.54-acres of the 18.42 acres site as a permanent conservation area. The onsite conservation area would be restored and managed by the Riverside Land Conservancy, a non-profit land trust. In addition to the onsite DSF conservation area, the Applicant proposes to purchase credits towards conservation in-perpetuity of 4 acres of occupied DSF habitat at the Colton Dunes Conservation Bank in the City of Colton, San Bernardino County, California. The conservation bank collects fees that fund a management endowment to ensure the permanent management and monitoring of sensitive species and habitats, including the DSF.

The Service's Environmental Assessment considers the environmental consequences of four alternatives, including: (1) The Proposed Project Alternative, which consists of issuance of the incidental take permit and implementation of the Plan; (2) the Alternative Site Design or Corridor Alternative, which consists of an alternate configuration of DSF conservation on the project site and offsite conservation; (3) the Rialto HCP Alternative, which anticipates inclusion of the project in a proposed conservation effort throughout the City of Rialto; and (4) the No Action Alternative, which would result in no impacts to DSF and no conservation.

National Environmental Policy Act

Proposed permit issuance triggers the need for compliance with the National Environmental Policy Act (NEPA). Accordingly, a draft NEPA document has been prepared. The Service is the Lead Agency responsible for compliance under NEPA. As NEPA lead agency, the Service is providing notice of the availability of the Environmental Assessment for public review.

Public Review

The Service invites the public to review the Plan, Implementing Agreement and Environmental Assessment during a 60-day public comment period (see DATES). Before including your address, phone number, e-mail address, or other personal identifying information in your comment, you should be aware that your entire comment—including your personal identifying information—may be made publicly available at any time. While you may ask us in your comment to withhold your personal identifying information from public review, we cannot guarantee that we will be able to do so.

This notice is provided pursuant to section 10(a) of the Act and the regulations for implementing NEPA, as amended (40 CFR 1506.6). We will evaluate the application, associated documents, and comments submitted thereon to determine whether the application meets the requirements of NEPA regulations and section 10(a) of the Act. If we determine that those requirements are met, we will issue a permit to the Applicant for the incidental take of the DSF. We will make our final permit decision no sooner than 60 days from the date of this notice.

Dated: July 25, 2007.
Ken McDermond,
Deputy Manager, California/Nevada Operations Office, Sacramento, California.

[FR Doc. E7-14859 Filed 7-31-07; 8:45 am]

BILLING CODE 4310-55-P